DEPARTMENT OF TRANSPORTATION

Federal Highway Administration

Notice of Final Federal Agency Actions on US 101 Constitution Way and Weigh Station Project: Curry County, OR

AGENCY: Federal Highway Administration (FHWA), DOT.

ACTION: Notice of Limitations on Claims for Judicial Review of Actions by FHWA.

SUMMARY: This notice announces actions taken by the FHWA, USACE, and other Federal agencies that are final within the meaning of 23 U.S.C. 139(l)(1). The actions relate to a proposed highway project, US 101 Constitution Way and Weigh Station, in Curry County, Oregon. This action grants approval for the project.

DATES: By this notice, the FHWA is advising the public of final agency actions subject to 23 U.S.C. 139(l)(1). A claim seeking judicial review of the Federal agency actions on the highway project will be barred unless the claim is filed on or before May 20, 2009. If the Federal law that authorizes judicial review of a claim provides a time period of less than 180 days for filing such claim, then that shorter time period still applies.

FOR FURTHER INFORMATION CONTACT: Michelle Eraut, Environmental Program Manager, Federal Highway Administration, 530 Center Street, NE., Suite 100, Salem, Oregon 97301, Telephone: (503) 587-4716. The US 101 at Constitution Way and Weigh Station categorical exclusion and other project records are available upon written request from the Federal Highway Administration at the address shown above. Comments or questions concerning this proposed action and the US 101 at Constitution Way and Weigh Station should be directed to the FHWA at the address provided above.

SUPPLEMENTARY INFORMATION: Notice is hereby given that the FHWA has taken final agency action subject to 23 U.S.C. 139 (l)(1) by issuing approval for the following highway project in the State of Oregon: U.S. 101 at Constitution Way and Weigh Station. The project will construct a traffic signal and safety improvements at the US 101 at Constitution Way intersection to improve safety and capacity. The project will also relocate the weigh station from it's existing location at the US 101 at Constitution Way intersection to an area approximately four miles to the south, near McVay Lane. The weigh station will be on the east side of US 101 and will be used to weigh northbound trucks. The actions by the Federal agencies and the laws under which such actions were taken are described in the categorical exclusion issued on October 8, 2008, and in other documents in the FHWA project records. The categorical exclusion and other project records are available by contacting the FHWA at the address provided above. This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303].

4. Wildlife: Endangered Species Act [16 U.S.C. 1531-1544 and Section 1536].

5. Historic and Cultural Resources: Section 106 of the National Historic Preservation Act of 1966, as amended [16 U.S.C. 470(f) et seq.].

6. Wetlands and Water Resources: Land and Water Conservation Fund (LWCF) [16 U.S.C. 4601-4604].

7. Executive Orders: E.O. 12898, Federal Actions to Address Environmental Justice in Minority Populations and Low Income Populations; E.O. 13175 Consultation and Coordination with Indian Tribal Governments.

(Catalog of Federal Domestic Assistance Program Number 20.205, Highway Planning and Construction. The regulations implementing Executive Order 12372 regarding intergovernmental consultation on Federal programs and activities apply to this program.)

Authority: 23 U.S.C. 139(l)(1).

Issued on: November 17, 2008.
Michelle Eraut,
Environmental Program Manager, Salem, Oregon.

[FR Doc. E8-27707 Filed 11-20-08; 8:45 am]

BILLING CODE 4910-22-P